DEPARTMENT OF TRANSPORTATION

Federal Aviation Administration

Notice of Intent To Rule on Application To Impose and Use the Revenue From a Passenger Facility Charge (PFC) at Chico Municipal Airport, Chico, CA

AGENCY: Federal Aviation Administration (FAA), DOT.

ACTION: Notice of intent to rule on application.

SUMMARY: The FAA proposes to rule and invites public comment on the application to impose and use the revenue from a PFC at Chico Municipal Airport under the provisions of the Aviation Safety and Capacity Expansion Act of 1990 (Title IX of the Omnibus Budget Reconciliation Act of 1990) (Pub. L. 101-508) and Part 158 of the Federal Aviation Regulations (14 CFR Part 158).

DATES: Comments must be received on or before June 4, 2001.

ADDRESSES: Comments on this application may be mailed or delivered in triplicate to the FAA at the following address: Federal Aviation Administration, Airports Division, 15000 Aviation Blvd., Lawndale, CA 90261, or San Francisco Airports District Office, 831 Mitten Road, Room 210 Burlingame, CA 94010-1303. In addition, one copy of any comments submitted to the FAA must be mailed or delivered to Mr. Robert A. Grierson, Airport Manager of the Chico Municipal Airport, at the following address: City of Chico, P.O. Box 3420, Chico, CA 95927. Air carriers and foreign air carriers may submit copies of written comments previously provided to the city of Chico under section 158.23 of Part 158.

FOR FURTHER INFORMATION CONTACT: Marlys Vandervelde, Airports Program Analyst, San Francisco Airports District Office, 831 Mitten Road, Room 210, Burlingame, CA 94010-1303, Telephone (650) 876-2806. The application may be reviewed in person at this same location.

SUPPLEMENTARY INFORMATION: The FAA proposes to rule and invites public comment on the application to impose and use the revenue from PFC at Chico Municipal Airport under the provisions of the Aviation Safety and Capacity Expansion Act of 1990 (Title IX of the Omnibus Budget Reconciliation Act of 1990) (Pub. L. 101-508) and Part 158 of the Federal Aviation Regulations (14 CFR Part 158). On April 4, 2001, the FAA determined that the application to impose and use a PFC submitted by the city of Chico was substantially complete within the requirements of § 158.25 of Part 158. The FAA will approve or disapprove the application, in whole or in part, no later than July 3, 2001.

The following is a brief overview of the impose and use application No. 01-04-C-00-CIC:

Level of proposed PFC: $3.00.

Proposed charge effective date: November 1, 2001.

Proposed charge expiration date: September 1, 2006.

Total estimated PFC revenue: $536,747.

Brief description of the proposed projects: Access road and drainage facilities between Fortress Street and aircraft parking apron development including complete engineering design and construction; Rehabilitate underground electrical duct and cable system-electrical vault to terminal to airport traffic control tower to apron edge; Runway 13L/31R pavement rehabilitation; Fortress Street overlay and reconstruction; Commercial road development-road construction and gate controls-Boeing Avenue, Convair Court, Fairchild Court, Lockheed Court, Piper Court, and Alley Road; New airfield sweeper: Replace airfield guidance signs-3 and noise abatement signs-2; Overlay runway 13R/31L and taxiways B, D, E & F between parallel runways; Expand T-hangar area taxiway and connect T-hangar taxiway to taxiway A; Acquire insulation suits for aircraft fire and rescue personnel; Airport master plan study; infield grading; Extend security fence ditch crossings; Improve emergency access and service road to west side of airport; and Installation of automated weather observation system.

Class or classes of air carriers which the public agency has requested not be required to collect PFCs: None.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the city of Chico.

Issued in Hawthorne, California, on April 4, 2001.
Herman C. Bliss,
Manager, Airports Division, Western-Pacific Region.

[FR Doc. 01-11263 Filed 5-3-01; 8:45 am]

BILLING CODE 4910-13-M